DEPARTMENT OF COMMERCE

National Oceanic and Atmospheric Administration

[I.D. 052104F]

Endangered and Threatened Species: Extension of Public Comment Period and Notice of Rescheduled Public Hearing on Proposed Listing Determinations for West Coast Salmonids

AGENCY: National Marine Fisheries Service (NMFS), National Oceanic and Atmospheric Administration (NOAA), Commerce.

ACTION: Extension of public comment period; notice of rescheduled public hearing.

SUMMARY: In June 2004, NMFS proposed to list 27 Evolutionarily Significant Units (ESUs) of salmon (chum, Oncorhynchus keta; coho, O. kisutch, sockeye, O. nerka; chinook, O. tshawytscha) and O. mykiss as threatened and endangered under the Endangered Species Act (ESA) and subsequently extended the public comment period and announced public hearings. NMFS is again extending the public comment period on the proposed listing determinations through November 12, 2004. Additionally, NMFS is rescheduling a public hearing in Portland, Oregon (originally to be held on October 13, 2004) to be held on November 9, 2004.

DATES: The due date for written comments is extended from October 20, 2004, to November 12, 2004. A public hearing is rescheduled to November 9, 2004.

ADDRESSES: You may submit comments on the proposed hatchery listing policy (69 FR 31354; June 3, 2004) by any of the following methods:

E-mail: The mailbox address for submitting e-mail comments on the proposed listing determinations is salmon.nwr@noaa.gov. Please include in the subject line of the e-mail comment the document identifier “Proposed Listing Determinations.”

Mail: Submit written comments and information to Chief, NMFS, Protected Resources Division, 525 NE Oregon Street, Suite 500, Portland, OR 97232-2737. Please identify the comment as regarding the “Proposed Listing Determinations.” You may hand-deliver written comments to our office at the street address given above, suite 210. Business hours are 8 a.m. to 5 p.m., Monday through Friday, except Federal holidays.

Hand Delivery/Courier: NMFS, Protected Resources Division, 525 NE Oregon Street, Suite 210, Portland, OR 97232-2737. Business hours are noted above.

Fax: 503-230-5435. Please identify the fax comment as regarding the “Proposed Listing Determinations.”

The public hearing will be held at the Doublettree Hotel Portland-Columbia River, 1401 N. Hayden Island Drive, Portland, OR 97217. You may obtain information updates on the public hearing on the Internet at the following web address: http://www.nwr.noaa.gov/AlseaResponse/20040528/meetings.html.

FOR FURTHER INFORMATION CONTACT: Garth Griffin, NMFS, Northwest Region, (503) 231-2005. Copies of the Federal Register notices cited herein and additional salmon-related materials are available on the Internet at http://www.nwr.noaa.gov/1srd/Prop_Determins/. For information regarding public hearings on the proposed listing determinations held in California, please contact Craig Wingert, NMFS, Southwest Region, (562) 980-4021. Information on public hearings in California is also available on the Internet at http://swr.nmfs.noaa.gov/news/SalmonidHearings.NR.pdf.

SUPPLEMENTARY INFORMATION:

Background

On June 14, 2004, NMFS published proposed ESA listing determinations for 27 salmon and O. mykiss ESUs, including 18 ESUs that occur in Oregon, Washington and Idaho (69 FR 33101). The 27 proposed listing determinations include 162 total hatchery programs as part of 4 ESUs being proposed for endangered status and 23 ESUs being proposed for threatened status. In addition, NMFS proposed amendments to the existing ESA 4(d) protective regulations for the proposed threatened ESUs.

With the publication of the proposed listing determinations NMFS announced a 90-day public comment period extending through September 13, 2004. In Federal Register notices published on August 31, 2004 (69 FR 53031) and September 9, 2004 (69 FR 54620), NMFS extended the public comment period for the proposed policy through October 20, 2004. Additionally, NMFS announced that it would hold public hearings at eight locations in the Pacific Northwest and six locations in California to provide additional opportunities and formats to receive public input. To date NMFS has held seven of these public hearings in Oregon, Washington, and Idaho, and all six public hearings in California.

Extension of Public Comment Period

NMFS has received a request from a U.S. congressional representative to extend the public comment period and postpone any remaining public meetings to provide additional opportunity for the public to consider the proposed listing determinations and to provide comment. In this notice NMFS is extending the public comment period through November 12, 2004.

Rescheduling of Public Hearing

In addition to extending the public comment period, NMFS is rescheduling a public hearing in Portland, Oregon (originally to be held on October 13, 2004) to be held on November 9, 2004 (see ADDRESSES for hearing location).

Public Hearing Format

Joint Commerce-Interior ESA implementing regulations state that the Secretary shall promptly hold at least one public hearing if any person requests one within 45 days of publication of a proposed regulation to list a species or to designate critical habitat (see 50 CFR 424.16(c)(3)). In past ESA rule-making, NMFS has conducted traditional public hearings, consisting of recorded oral testimony from interested individuals. This format, although providing an alternative means of public input, is time consuming for the attendees and does not provide opportunities for dialogue and information exchange. In the Federal Register notice published on August 31, 2004 (69 FR 53039), NMFS described an alternative “open-house” format aimed at providing all hearing participants with the opportunity to obtain information on and discuss the proposed listing determinations. NMFS has held seven of these “open-house” style public hearings, and believes that the new format improves the ability of the public to engage effectively in the rulemaking process.

Afternoon Practitioners' Session

An afternoon session (1:30 p.m. to 4:30 p.m., November 9, 2004) in Portland (Oregon) will be provided for local practitioners and stakeholders involved with managing the ESA on a regular basis, including: tribal governments; forestry and agricultural interests; home builders and developers; the sport and commercial fishing community; the environmental community; the business community; utility and special districts; local government elected officials and their staff; other locally based Federal and state agencies; and public interest groups. Attendance at the afternoon sessions in Portland (Oregon) will be on a pre-registration basis. Information on attending the practitioners' afternoon session in Portland is available from NMFS upon request (see FOR FURTHER INFORMATION CONTACT, above) as well as on the Internet at http://www.nwr.noaa.gov/AlseaResponse/20040528/PortlandMeeting.html.

Evening Open House and Public Testimony

An evening “open house” session, designed for broader public participation, will be conducted in Portland (Oregon) on the same day as the afternoon practitioners' session (November 9, 2004) from 6:30 p.m. to 9:30 p.m. The “open house” format will provide the general public with an opportunity to meet with NMFS staff in small groups on specific topics. This evening meeting will also provide opportunities for the public to make formal recorded comments on the proposal. There is no need to register; just drop in anytime during the course of the evening event.

Special Accommodations

This hearing is physically accessible to people with disabilities. Requests for sign language or other aids should be directed to Garth Griffin (see ADDRESSES) 7 days before the meeting date.

References

Copies of the Federal Register notices and related materials cited in this document are available on the Internet at http://nwr.noaa.gov, or upon request (see ADDRESSES section above).

Authority: 16 U.S.C. 1531 et seq.

Dated: October 12, 2004.
Laurie K. Allen,
Director, Office of Protected Resources, National Marine Fisheries Service.

[FR Doc. 04-23283 Filed 10-15-04; 8:45 am]

BILLING CODE 3510-22-S